FEDERAL COMMUNICATIONS COMMISSION

Public Information Collections Approved by Office of Management and Budget

March 4, 2002.

The Federal Communications Commission (FCC) has received Office of Management and Budget (OMB) approval for the following public information collections pursuant to the Paperwork Reduction Act of 1995, Pub. L. 104-13. An agency may not conduct or sponsor and a person is not required to respond to a collection of information unless it displays a currently valid control number. For further information contact Shoko B. Hair, Federal Communications Commission, (202) 418-1379.

Federal Communications Commission

OMB Control No.: 3060-0463.

Expiration Date: 07/31/2002.

Title: Telecommunications Services for Individuals with Hearing and Speech Disabilities and the Americans with Disabilities Act of 1990, 47 CFR part 64 (Sections 64.601-64.605).

Form No.: N/A.

Respondents: Business or other for-profit.

Estimated Annual Burden: 5052 respondents; 5.31 hour per response (avg.); 26,831 total annual burden hours (for all collections under this control number).

Estimated Annual Reporting and Recordkeeping Cost Burden: $0.

Frequency of Response: On occasion; Every five years; Recordkeeping; Third Party Disclosure.

Description: In the Memorandum Opinion and Order and Further Notice of Proposed Rulemaking issued in CC Docket No. 98-67, released December 21, 2001 (MO&O), the Commission adopts three of the four recommendations for traditional TRS: (1) The Commission directs the TRS administrator to use the average per minute costing methodology to develop the interstate cost recovery mechanism for traditional TRS; (2) the Commission also directs the TRS administrator to review the TRS Center Data Request, and report to the Chief of the Common Carrier Bureau, on an ongoing basis, any changes necessary to ensure that TRS providers are compensated for additional costs imposed by the Improved TRS Order; and (3) the Commission directs that the same minutes of use allocation methodology in place for toll-free call minutes should be used for 900 call minutes. In the MO&O, the Commission also adopts the four recommendations for STS cost recovery: (1) The Commission directs the TRS administrator to use the same average per minute costing methodology cost recovery mechanism for traditional TRS for STS; (2) the Commission adopts a separate per-minute national average compensation formula for STS and directs the TRS administrator to develop annually a national average STS reimbursement rate for compensating STS providers; (3) because STS service is of a more recent origin, the Commission adopts the Advisory Council and the Fund Administrator's recommendation that the TRS Center Data Request be expanded to capture separately STS costs and minutes; and (4) as with traditional TRS, each provider of STS services will be compensated at the national average rate for every completed conversation minute. In the MO&O, the Commission also states that due to the unique characteristics of VRS, a separate reimbursement rate for VRS should be calculated. The Commission also agrees with the Advisory Council and the Fund Administrator's recommendation that the TRS Center Data Request should be expanded to include specific sections to capture separately VRS costs and minutes for this service. Thus, the Commission requires NECA to expand the TRS Data Request to include data that are specific to VRS. By promoting the efficient and effective means of cost recovery for TRS services, these collection requirements should help to advance a procompetitive, deregulatory national policy framework for telecommunications services, a key goal of the Telecommunications Act of 1996. Other information collections unaffected by the MO&O remain in place as currently approved by OMB. Obligation to respond: Mandatory.

OMB Control No.: 3060-0519.

Expiration Date: 02/28/2005.

Title: Rules and Regulations Implementing the Telephone Consumer Protection Act of 1991 (CC Docket No. 92-06).

Form No.: N/A.

Respondents: Business or other for-profit.

Estimated Annual Burden: 30,000 respondents; 31.2 hours per response (avg.); 936,000 total annual burden hours.

Estimated Annual Reporting and Recordkeeping Cost Burden: $0.

Frequency of Response: On occasion; Recordkeeping..

Description: In CC Docket No. 92-60, the Commission implemented rules pursuant to the requirements of the Telephone Consumer Protection Act of 1991, Public Law 102-243, December 20, 1991 (TCPA) which added Section 227 to the Communications Act of 1934, as amended, to restrict the use of automatic telephone dialing systems, artificial or prerecorded messages, facsimile machines or other devices to send unsolicited advertisements. The rules require that telephone solicitors maintain and use company-specific lists of residential subscribers who request not to receive further telephone calls (company-specific do-not-call lists), thereby affording consumers the choice of which solicitors if any, they will hear from by telephone. Telephone solicitors also are required to have a written policy for maintaining do-not-call lists, and are responsible for informing and training their personnel the existence and use of such lists. See 47 CFR Section 64.1200(e)(i). The rules require that those making telephone solicitations identify themselves to called parties, and that basic identifying information also be included in telephone facsimile transmissions. See 47 CFR Sections 64.1200(e)(iv) and 68.318(c)(3). The Commission believes that these rules are the best means of preventing unwanted telephone solicitations. Obligation to respond: Mandatory.

OMB Control No.: 3060-0653.

Expiration Date: 02/28/2005.

Title: Sections 64.703(b) and (c)—Consumer Information—Posting by Aggregators.

Form No.: N/A. .

Respondents: Business or other for-profit.

Estimated Annual Burden: 56,200 respondents; 3.67 hour per response (avg.); 206,566 total annual burden hours.

Estimated Annual Reporting and Recordkeeping Cost Burden: $0.

Frequency of Response: On occasion; Third Party Disclosure.

Description: Section 226(c)(1)(A) of the Communications Act and Section 64.703(b) of the Commission's rules require that each aggregator post on or near the telephone instrument in plain view of consumers: (1) The name, address, and toll-free telephone number of the provider of operator services; (2) written disclosure that the rates for all operator-assisted calls are available on request, and that consumers have a right to obtain access to the interstate common carrier of their choice and may contact their preferred interstate common carriers for information on accessing that carrier's service using that telephone; and (3) the name and address of the Consumer Information Bureau of the Commission, to which the consumer may direct complaints regarding operator services. This requirement was a response to a widespread failure of aggregators to disclose information necessary for informed consumer choice in the marketplace. See 47 CFR Section 64.703(b). In the Second Order on Reconsideration in CC Docket No. 92-77, the Commission amended section 64.703(b)(4) to require that the new bureau's (Consumer Information Bureau) name and address be posted on payphones in future postings. The Consumer Information Bureau, is now the appropriate recipient of consumer complaints about OSPs. Section 64.703(c) establishes a 30-day outer limit for aggregators to update the posted information. An aggregator may meet the 30-day outer limit rule, where its maintenance technicians would not otherwise visit the particular payphone location within 30 days, by having its coin collection or other agent affix a temporary sticker to the payphone. Such temporary sticker must be replaced with permanent signage during the next regularly scheduled maintenance visit. Section 64.703(c) is intended to provide updated OSP information to consumers and enable consumers to make informed choices when placing operator service calls. See 47 CFR Section 64.703(c). Aggregators will disclose the required information to consumers via printed notice that is posted on or near each of the aggregator's phones. Pursuant to Section 64.703(c), this information must be updated within 30 days in changes of OSPs. Consumers will use this information to determine whether they wish to use the services of the identified OSP. Obligation to respond: Mandatory.

OMB Control No.: 3060-0823.

Expiration Date: 2/28/2005.

Title: Pay Telephone Reclassification Memorandum Opinion and Order, CC Docket No. 96-128.

Form No.: N/A.

Respondents: Business or other for-profit.

Estimated Annual Burden: 400 respondents; 111.75 hour per response (avg.); 44,700 total annual burden hours.

Estimated Annual Reporting and Recordkeeping Cost Burden: $480,000.

Frequency of Response: On occasion; Recordkeeping; Third Party Disclosure.

Description: In the Payphone Orders, the Commission adopted rules and policies governing the payphone industry to implement section 276 of the Telecommunications Act of 1996. Those rules and policies in part establish a plan to ensure fair compensation for “each and every completed intrastate and interstate call using [a] payphone.” Specifically, the Commission established a plan to ensure that payphone service providers (PSPs) were compensated for certain noncoin calls originated from their payphones. In a Memorandum Opinion and Order issued in CC Docket No. 96-128 (Order), the Commission clarified requirements established in the Payphone Orders for the provision of payphone-specific coding digits. The following collections of information implement section 276 of the Act. The collection requirements are as follows:

a. LEC Tariff to provide FLEX ANI to IXCs: Local exchange carriers (LECs) must implement FLEX ANI to comply with the requirements set forth in the Payphone Orders. LECs must provide to IXCs through their interstate tariffs, FLEX ANI service so that IXCs can identify which calls come from a payphone. LECs (and PSPs) must provide FLEX ANI to IXCs without charge for the limited purpose of per-call compensation, and accordingly, LECs providing FLEX ANI must revise their interstate tariffs to reflect FLEX ANI as a nonchargeable option to IXCs no later than March 30, 1998, to be effective no later than April 15, 1998, in those areas that it is available. (No. of respondents: 400; hours per response: 35 hours; total annual burden: 14,000 hours.)

b. LEC Tariff to recover costs: LECs must file a tariff to establish a rate element in their interstate tariffs to recover their costs from PSPs for providing payphone-specific coding digits to IXCs. This tariff must reflect the costs of implementing FLEX ANI to provide payphone-specific coding digits for payphone compensation, and provide for recovery of such costs over a reasonable time period through a monthly recurring flat-rate charge. LECs must provide cost support information for the rate elements they propose. The Bureau will review these LEC rate element tariff filings, the reasonableness of the costs, and the recovery period. LECs will recover their costs over an amortization period of no more than ten years. The rate element charges will discontinue when the LEC has recovered its cost. (No. of respondents: 400; hours per response: 35 hours; total annual burden 14,000 hours.)

c. LECs must provide IXCs information on payphones that provide payphone-specific coding digits for smart and dumb payphones: LECs must provide IXCs information on the number and location of smart and dumb payphones providing payphone-specific coding digits, as well as the number of those that are not. (No. of respondents: 400; hours per response: 24 hours; total annual burden: 9600 hours.)

d. LECs must provide IXCs and PSPs information on where FLEX ANI is available now and when it is to be scheduled in the future: Within 30 days of the release of the MO&O, LECs should be prepared to provide IXCs, upon request, information regarding their plans to implement FLEX ANI by end office. LECs must provide IXCs and PSPs information on payphones that provide payphone-specific coding digits on end offices where FLEX ANI is available, and where it is not, on a monthly basis. Pursuant to the waivers in this order, LECs must also inform IXCs and PSPs proposed dates for its availability. (No. of respondents: 400; hours per response: 16 hours; total annual burden: 6400 hours.)

e. For a waiver granted to small or midsize LECs, a cost analysis must be provided, upon request: In the MO&O, the Bureau grants a waiver to midsize and small LECs that will be unable to recover the costs of implementing FLEX ANI in a reasonable time period. LECs must make this evaluation within 30 days of the release of the MO&O. The LEC must then notify IXCs that they will not be implementing FLEX ANI pursuant to this waiver, and provide the number of dumb payphones providing the “27” coding digit and the number of smart phones for which payphone-specific coding digits are unavailable. A LEC delaying the implementation of FLEX ANI pursuant to this waiver provision must be prepared to provide its analysis, if requested by the Commission. (No. of respondents: 20; hours per response: 35 hours; total annual burden: 700 hours.) The information disclosure rules and policies governing the payphone industry to implement section 276 of the Act will ensure the payment of per-call compensation by implementing a method for LECs to provide information to IXCs to identify calls, for each and every call made from a payphone. Obligation to respond: Required to obtain or retain benefits.

Public reporting burden for the collections of information are as noted above. Send comments regarding the burden estimates or any other aspect of the collections of information, including suggestions for reducing the burden to Performance Evaluation and Records Management, Washington, DC 20554.

Federal Communications Commission.
William Caton,
Acting Secretary.

[FR Doc. 02-5677 Filed 3-8-02; 8:45 am]

BILLING CODE 6712-01-P